DEPARTMENT OF THE INTERIOR

Bureau of Land Management

[NM-920-1310-08); (OKNM 117608; OKNM 117609]

Proposed Reinstatement of Terminated Oil and Gas Leases OKNM 117608; OKNM 117609

AGENCY: Bureau of Land Management, Interior.

ACTION: Notice of reinstatement of terminated oil and gas leases.

SUMMARY: Pursuant to the provisions of 43 CFR 3108.2-3(b)(2), Capital Land Services, Inc. timely filed a petition for reinstatement of oil and gas leases OKNM 117608 and OKNM 117609 for lands in Woodward County, Oklahoma, and was accompanied by all required rentals and royalties accruing from March 1, 2008, the date of termination.

FOR FURTHER INFORMATION CONTACT: Becky C. Olivas, BLM, New Mexico State Office, (505) 438-7609.

SUPPLEMENTARY INFORMATION: No valid lease has been issued affecting the lands. The lessee has agreed to new lease terms for rentals and royalties at rates of $10.00 per acre or fraction thereof and 16⅔ percent, respectively. The lessee has paid the required $500.00 administrative fee and has reimbursed the Bureau of Land Management for the cost of this Federal Register notice. The lessee has met all the requirements for reinstatement of the leases as set out in Sections 31(d) and (e) of the Mineral Leasing Act of 1920 (30 U.S.C. 188), and the Bureau of Land Management is proposing to reinstate the leases effective March 1, 2008, subject to the original terms and conditions of the leases and the increased rentals and royalty rates cited above.

Dated: December 19, 2008.
Becky C. Olivas,
Land Law Examiner, Fluids Adjudication Team 1.

[FR Doc. E8-30772 Filed 12-30-08; 8:45 am]

BILLING CODE 4310-FB-P